SOCIAL SECURITY ADMINISTRATION

[Docket No. SSA 2007-0030]

Privacy Act of 1974, as Amended; Computer Matching Program Amendment (SSA/States, SDX-BENDEX-SVES Files)—Match 6001, 6002, and 6004

AGENCY: Social Security Administration (SSA).

ACTION: Notice of a renewal of an existing computer matching program amendment which is scheduled to expire on June 30, 2007.

SUMMARY: In accordance with the provisions of the Privacy Act, as amended, this notice announces a renewal of an existing computer matching program amendment that SSA is currently conducting with the States. The amendment provides specific electronic use available to any participating State for accessing SSA data.

DATES: SSA will file a report of the subject matching program amendment with the Committee on Homeland Security and Governmental Affairs of the Senate, the Committee on Oversight and Government Reform of the House of Representatives, and the Office of Information and Regulatory Affairs, Office of Management and Budget (OMB). The matching program amendment will be effective as indicated below.

ADDRESSES: Interested parties may comment on this notice by either telefaxing to (410) 965-8582 or writing to the Associate Commissioner, Office of Income Security Programs, 252 Altmeyer Building, 6401 Security Boulevard, Baltimore, MD 21235-6401. All comments received will be available for public inspection at this address.

FOR FURTHER INFORMATION CONTACT: The Associate Commissioner for Income Security Programs, as shown above.

SUPPLEMENTARY INFORMATION:

A. General

The Computer Matching and Privacy Protection Act of 1988 (Public Law (Pub. L.) 100-503) amended the Privacy Act (5 U.S.C. 552a) by describing the manner in which computer matching involving Federal agencies could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: April 24, 2007.
Manuel J. Vaz,
Acting Deputy Commissioner for Disability and Income Security Programs.

Notice of Computer Matching Program Amendment, Social Security Administration (SSA) with the States

A. Participating Agencies

SSA and the States.

B. Purpose of the Matching Program Amendment

The purpose of this matching program amendment is to establish the conditions and methods of access under which SSA agrees to extend to State Agency(ies) State Online Query (SOLQ) access to various SSA data systems, as specified in the primary agreement and indicated in the amendment below, to facilitate the administration of Medicaid, Temporary Assistance for Needy Families (TANF) and Food Stamp Programs.

The primary agreements with the States will describe the information to be disclosed and the conditions under which SSA agrees to disclose such information.

C. Authority for Conducting the Matching Program Amendment

This matching program is carried out under the authority of the Privacy Act of 1974, as amended; sections 202(x)(3)(B)(iv), 205(r)(3), 1137, 1106, and 453 of the Social Security Act; sections 402, 412, 421 and 435 of Public Law 104-193; Public Law 108-458; section 6301(l)(7) of Title 26 of the Internal Revenue Code and SSA's Privacy Act Regulations (20 CFR 410.150). The amendment provides specific electronic use available to any participating State for accessing SSA data.

D. Categories of Records and Individuals Covered by the Matching Program

States will provide SSA with names and other identifying information of appropriate benefit applicants or recipients. Specific information from participating States will be matched, as provided in the agreement for the specific programs, with the following systems of records maintained by SSA.

1. Supplemental Security Income Record and Special Veterans Benefits (SSR/SVB), SSA/ODSSIS (60-0103);

2. Master Beneficiary Record (MBR), SSA/ORSIS (60-0090);

3. Earnings Recording and Self-Employment Income System (MEF), SSA/OEEAS(600059);

4. Master Files of SSN Holders and SSN Applications (Numident), SSA/OEEAS (60-0058); and

5. Prisoner Update Processing System (PUPS), SSA/OEEAS (60-0269).

E. Inclusive Dates of the Matching Program

The matching program amendment will become effective no sooner than 40 days after notice of the matching program amendment is sent to Congress and OMB, or 30 days after publication of this notice in the Federal Register, whichever date is later. The matching program will continue for 18 months from the effective date and may be extended for an additional 12 months thereafter, if certain conditions are met.

Individual State matching agreement amendments under the matching program will become effective upon the effective date of this matching program amendment or the signing of the amendment by the parties to the individual amendment, whichever is later. The duration of individual State matching agreements will be subject to the timeframes and limitations contained in the primary agreement.

[FR Doc. E7-8460 Filed 5-2-07; 8:45 am]

BILLING CODE 4191-02-P